DEPARTMENT OF HOMELAND SECURITY

Coast Guard

33 CFR Part 165

[Docket Number USCG-2024-0500]

RIN 1625-AA00

Safety and Security Zones: Pilgrim Nuclear Power Plant, Plymouth Massachusetts

AGENCY: Coast Guard, DHS.

ACTION: Notice of proposed rulemaking.

SUMMARY: The Coast Guard is proposing to disestablish the existing security zone for Pilgrim Nuclear Power Plant, Plymouth, Massachusetts. Since the implementation of the regulation, the facility has permanently ceased power operations making the provisions of the security zone no longer applicable. The waterfront facility's security zone will be removed from all charts, publications, and other navigational references. All related private aids to navigational marking the boundaries of the security zone will also be removed. We invite your comments on this proposed rulemaking.

DATES: Comments and related material must be received by the Coast Guard on or before September 30, 2024.

ADDRESSES: You may submit comments identified by docket number USCG-2024-0500 using the Federal Decision-Making Portal at https://www.regulations.gov. See the “Public Participation and Request for Comments” portion of the SUPPLEMENTARY INFORMATION section for further instructions on submitting comments. This notice of proposed rulemaking with its plain-language, 100-word-or-less proposed rule summary will be available in this same docket.

FOR FURTHER INFORMATION CONTACT: If you have questions about this proposed rulemaking, call, or email Mr. Timothy Chase. Sector Boston, Waterways Management Division, U.S. Coast Guard; telephone 617-447-1620, email Timothy.w.chase@uscg.mil.

SUPPLEMENTARY INFORMATION:

I. Table of Abbreviations

CFR Code of Federal Regulations

COTP Captain of the Port Sector Boston

DHS Department of Homeland Security

FR Federal Register

NPRM Notice of proposed rulemaking

§ Section

U.S.C. United States Code

II. Background, Purpose, and Legal Basis

On September 11, 2001, four commercial aircraft were hijacked and flown into the World Trade Center in New York City, and the Pentagon, inflicting catastrophic human casualties and property damage. National security and intelligence officials warned that future terrorist attacks were likely.

In response, on May 30, 2002, the Coast Guard published a final rule titled “Safety and Security Zones; Pilgrim Nuclear Power Plant, Plymouth Massachusetts” in the Federal Register (67 FR 37693). On October 2, 2009 the regulation was amended by Federal Register (74 FR 50925) establishing a permanent safety and security zone on all waters of Cape Cod Bay and land adjacent to those waters enclosed by a line beginning at position 41-56′59.3″ N, 070-34′58.5″ W; thence to 41-57′12.2″ N, 070-34′41.9″ W; thence to 41-56′42.3″ N, 070-34′00.1″ W; thence to 41-56′29.5″ N, 070-34′14.5″ W within Captain of the Port (COTP) Sector Boston, Massachusetts as part of a comprehensive, port security regime designed to safeguard human life, vessels and waterfront facilities from sabotage or terrorist acts.

On June 10, 2019, Entergy Nuclear Operations Inc (site prior owner) notified the U.S. Nuclear Regulatory Commission (NRC) that the power operations have ceased at Pilgrim Nuclear Station (PNPS) and that the nuclear fuel was permanently removed from the PNPS reactor vessel as per 10 CFR 50.82(a)(1)(i). Effectively, Entergy understood and acknowledged that upon docketing these certifications (ML19161A033), the PNPS 10 CFR part 50 license no longer authorized operation of the reactor or emplacement or retention of fuel in the reactor vessel. Subsequently, the facility license and ownership of Pilgrim Station was transferred to HDI on August 27, 2019 (ML19235A050).

On December 14, 2021, HDI notified the NRC (ML21348A748) that all nuclear fuel was transferred out of the spent nuclear fuel pool and was placed in dry cask storage containers within the newly built Independent Spent Fuel Storage Installation (ISFSI). These dry cask storage containers are air cooled and do not rely on cooling water from cape cod bay for nuclear fuel cooling.

On January 9, 2024, Entergy Nuclear Operation, Inc, notified the Coast Guard that they had provided all the required documentation for disestablishment to the U.S. Nuclear Regulatory Commission as per 10 CFR 50.82(a)(1)(i). Power operations have ceased at the Pilgrim Nuclear Power Station.

For the reason discussed in the preceding paragraph, the Coast Guard proposes to disestablish the security zone cited in 33 CFR 165.115, Safety and Security Zones: Pilgrim Nuclear Power Plant, Plymouth, Massachusetts by removing that section completely and reserving it for future use. The Coast Guard is proposing this rulemaking under authority in 46 U.S.C. 70034.

III. Discussion of Proposed Rule

The Coast Guard proposes to disestablish the security zone cited in 33 CFR 165.115, Safety and Security Zones: Pilgrim Nuclear Power Plant, Plymouth, Massachusetts, by removing that section and reserving it for future use.

IV. Regulatory Analyses

We developed this proposed rule after considering numerous statutes and Executive orders related to rulemaking. Below we summarize our analyses based on a number of these statutes and Executive orders, and we discuss First Amendment rights of protestors.

A. Regulatory Planning and Review

Executive Orders 12866 and 13563 direct agencies to assess the costs and benefits of available regulatory alternatives and, if regulation is necessary, to select regulatory approaches that maximize net benefits. This NPRM has not been designated a “significant regulatory action,” under section 3(f) of Executive Order 12866, as amended by Executive Order 14094 (Modernizing Regulatory Review). Accordingly, the NPRM has not been reviewed by the Office of Management and Budget (OMB).

This regulatory action determination is based on the need to align the regulations with the current arrangements of the port as the waterfront facility safety zone is no longer required. The Captain of the Port Sector Boston proposes to amend 33 CFR 165.115(a)(1) and reserve it for future use.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this proposed rule would not have a significant economic impact on a substantial number of small entities.

If you think that your business, organization, or governmental jurisdiction qualifies as a small entity and that this proposed rule would have a significant economic impact on it, please submit a comment (see ADDRESSES) explaining why you think it qualifies and how and to what degree this rulemaking would economically affect it.

Under section 213(a) of the Small Business Regulatory Enforcement Fairness Act of 1996 (Pub. L. 104-121), we want to assist small entities in understanding this proposed rule. If the proposed rule would affect your small business, organization, or governmental jurisdiction and you have questions concerning its provisions or options for compliance, please call or email the person listed in the FOR FURTHER INFORMATION CONTACT section. The Coast Guard will not retaliate against small entities that question or complain about this proposed rule or any policy or action of the Coast Guard.

C. Collection of Information

This proposed rule would not call for a new collection of information under the Paperwork Reduction Act of 1995 (44 U.S.C. 3501-3520).

D. Federalism and Indian Tribal Governments

A rule has implications for federalism under Executive Order 13132 (Federalism), if it has a substantial direct effect on the States, on the relationship between the National Government and the States, or on the distribution of power and responsibilities among the various levels of government. We have analyzed this proposed rule under that Order and have determined that it is consistent with the fundamental federalism principles and preemption requirements described in Executive Order 13132.

Also, this proposed rule does not have Tribal implications under Executive Order 13175 (Consultation and Coordination with Indian Tribal Governments) because it would not have a substantial direct effect on one or more Indian tribes, on the relationship between the Federal Government and Indian tribes, or on the distribution of power and responsibilities between the Federal Government and Indian tribes. If you believe this proposed rule has implications for federalism or Indian tribes, please call or email the person listed in the FOR FURTHER INFORMATION CONTACT section.

E. Unfunded Mandates Reform Act

The Unfunded Mandates Reform Act of 1995 (2 U.S.C. 1531-1538) requires Federal agencies to assess the effects of their discretionary regulatory actions. In particular, the Act addresses actions that may result in the expenditure by a State, local, or Tribal government, in the aggregate, or by the private sector of $100,000,000 (adjusted for inflation) or more in any one year. Though this proposed rule would not result in such an expenditure, we do discuss the potential effects of this proposed rule elsewhere in this preamble.

F. Environment

We have analyzed this proposed rule under Department of Homeland Security Directive 023-01, Rev. 1, associated implementing instructions, and Environmental Planning COMDTINST 5090.1 (series), which guide the Coast Guard in complying with the National Environmental Policy Act of 1969 (42 U.S.C. 4321-4370f), and have made a preliminary determination that this action is one of a category of actions that do not individually or cumulatively have a significant effect on the human environment. This proposed rule involves the disestablishment of a security zone. Normally such actions are categorically excluded from further review under paragraph L60(b) of Appendix A, Table 1 of DHS Instruction Manual 023-01-001-01, Rev. 1. A preliminary Record of Environmental Consideration supporting this determination is available in the docket. For instructions on locating the docket, see the ADDRESSES section of this preamble. We seek any comments or information that may lead to the discovery of a significant environmental impact from this proposed rule.

G. Protest Activities

The Coast Guard respects the First Amendment rights of protesters. Protesters are asked to call or email the person listed in the FOR FURTHER INFORMATION CONTACT section to coordinate protest activities so that your message can be received without jeopardizing the safety or security of people, places, or vessels.

V. Public Participation and Request for Comments

We view public participation as essential to effective rulemaking and will consider all comments and material received during the comment period. Your comment can help shape the outcome of this rulemaking. If you submit a comment, please include the docket number for this rulemaking, indicate the specific section of this document to which each comment applies, and provide a reason for each suggestion or recommendation.

Submitting comments. We encourage you to submit comments through the Federal Decision-Making Portal at https://www.regulations.gov. To do so, go to https://www.regulations.gov, type USCG-2024-0500 in the search box and click “Search.” Next, look for this document in the Search Results column, and click on it. Then click on the Comment option. If you cannot submit your material by using https://www.regulations.gov, call or email the person in the FOR FURTHER INFORMATION CONTACT section of this proposed rule for alternate instructions.

Viewing material in docket. To view documents mentioned in this proposed rule as being available in the docket, find the docket as described in the previous paragraph, and then select “Supporting & Related Material” in the Document Type column. Public comments will also be placed in our online docket and can be viewed by following instructions on the https://www.regulations.gov Frequently Asked Questions web page. Also, if you click on the Dockets tab and then the proposed rule, you should see a “Subscribe” option for email alerts. The option will notify you when comments are posted, or a final rule is published.

We review all comments received, but we will only post comments that address the topic of the proposed rule. We may choose not to post off-topic, inappropriate, or duplicate comments that we receive.

Personal information. We accept anonymous comments. Comments we post to https://www.regulations.gov will include any personal information you have provided. For more about privacy and submissions to the docket in response to this document, see DHS's eRulemaking System of Records notice (85 FR 14226, March 11, 2020).

List of Subjects in 33 CFR Part 165

Harbors, Marine safety, Navigation (water), Reporting and recordkeeping requirements, Security measures, Waterways.

For the reasons discussed in the preamble, the Coast Guard is proposing to amend 33 CFR part 165 as follows:

PART 165—REGULATED NAVIGATION AREAS AND LIMITED ACCESS AREAS

1. The authority citation for part 165 continues to read as follows:

Authority: 46 U.S.C. 70034, 70051, 70124; 33 CFR 1.05-1, 6.04-1, 6.04-6, and 160.5; Department of Homeland Security Delegation No. 00170.1, Revision No. 01.3.

§ 165.115 [Removed]

2. Remove § 165.115.

Dated: August 22, 2024.
J.C. Frederick,
Captain, U.S. Coast Guard, Captain of the Port Sector Boston.

[FR Doc. 2024-19592 Filed 8-29-24; 8:45 am]

BILLING CODE 9110-04-P